DEPARTMENT OF HOMELAND SECURITY

Coast Guard

33 CFR Part 100

[Docket No. USCG-2016-0500]

RIN 1625—AA08

Special Local Regulation; Little Annemessex River and Somers Cove, Crisfield, MD

AGENCY: Coast Guard, DHS.

ACTION: Proposed rule; withdrawal.

SUMMARY: The Coast Guard is withdrawing its proposed rule concerning amendments to the regattas and marine parades regulations. The rulemaking was initiated to establish special local regulations during the swim segment of the “Crisfield CrabMan Triathlon,” a marine event to be held on the waters of the Little Annemessex River and Somers Cove in Somerset County at Crisfield, MD on September 17, 2016. The Coast Guard was notified on July 25, 2016 that the event had been cancelled.

DATES: The proposed rule is withdrawn on September 6, 2016.

ADDRESSES: The docket for this withdrawn rulemaking is available for inspection using the Federal eRulemaking Portal at http://www.regulations.gov and can be viewed by following that Web site's instructions.

FOR FURTHER INFORMATION CONTACT: If you have questions about this notice, call or email Mr. Ronald Houck, Waterways Management Division, U.S. Coast Guard Sector Maryland-National Capital Region; telephone 410-576-2674, email Ronald.L.Houck@uscg.mil.

SUPPLEMENTARY INFORMATION:

Background

On July 27, 2016, we published a notice of proposed rulemaking entitled “Special Local Regulation; Little Annemessex River and Somers Cove, Crisfield, MD” in the Federal Register (81 FR 17774). The rulemaking concerned the Coast Guard's proposal to establish temporary special local regulations on specified waters of Little Annemessex River and Somers Cove at Crisfield, MD, effective from 5:30 a.m. on September 17, 2016 until 10 a.m. on September 18, 2016. The regulated area included all navigable waters of the Little Annemessex River and Somers Cove, from shoreline to shoreline, bounded to the north by a line drawn from the eastern shoreline of Janes Island at latitude 37°58′39″ N., longitude 075°52′05″ W., and thence eastward to the Crisfield City Dock at latitude 37°58′39″ N., longitude 075°51′50″ W., and bounded to the south by a line drawn from Long Point on Janes Island at latitude 37°58′12″ N., longitude 075°52′42″ W., and thence eastward to Hammock Point at latitude 37°57′58″ N., longitude 075°51′58″ W., located at Crisfield, MD. The regulations were needed to temporarily restrict vessel traffic during the event to provide for the safety of participants, spectators and other transiting vessels.

Withdrawal

The Coast Guard is withdrawing this rulemaking because the event has been cancelled.

Authority

We issue this notice of withdrawal under the authority of 33 U.S.C. 1233.

Dated: August 24, 2016.
Lonnie P. Harrison, Jr.,
Captain, U.S. Coast Guard, Captain of the Port Maryland-National Capital Region.

[FR Doc. 2016-21173 Filed 9-2-16; 8:45 am]

BILLING CODE 9110-04-P